DEPARTMENT OF THE INTERIOR

Fish and Wildlife Service

[FWS-R6-R-2016-N040; FF06R06000-FXRS12610600000-167]

National Elk Refuge, Teton County, Wyoming; Final Comprehensive Conservation Plan and Finding of No Significant Impact for Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) for the National Elk Refuge (Refuge, NWR). In this final CCP, we describe how we intend to manage the refuge for the next 15 years.

ADDRESSES: You will find the final CCP, a summary of the final CCP, and the EA/FONSI on the planning Web site: http://www.fws.gov/mountain-prairie/refuges/wy_ner.php. A limited number of hard copies and CD-ROMs are available. You may request one by any of the following methods:

• Email: nationalelkrefuge@fws.gov. Include “National Elk Refuge CCP” in the subject line of the message.

• U.S. Mail: National Elk Refuge, P.O. Box 510, Jackson, WY, 83001.

FOR FURTHER INFORMATION CONTACT: Steve Kallin, Refuge Manager, at 307-733-9212 (phone), or Toni Griffin, Planning Team Leader, 303-236-4378 (phone) or toni_griffin@fws.gov (email).

SUPPLEMENTARY INFORMATION:

Introduction

With this notice, we continue the CCP process for the National Elk Refuge, which we began by publishing a notice of intent in the Federal Register (75 FR 65370) on October 22, 2010. For more about the initial process and the history of this refuge, see that notice. We released the draft CCP and EA to the public, announcing and requesting comments in a notice of availability (79 FR 53440) on September 9, 2014. The 45-day comment period ended on October 24, 2014. A summary of public comments and the agency responses is included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The final CCP may be found at http://www.fws.gov/mountain-prairie/refuges/wy_ner.php. The final CCP includes detailed information about the planning process, refuge, issues, and management alternative selected. The Web site also includes an EA, prepared in accordance with the National Environmental Policy Act (NEPA) (43 U.S.C. 4321 et seq.). The EA includes discussion of four alternative refuge management options. The Service's selected alternative is reflected in the final CCP, and also in the FONSI.

The selected alternative focuses on habitat and wildlife management that allow for natural processes to promote habitats. Some habitats, such as wetlands, will be managed to enhance swan habitat and improve forage quantity and quality for elk and bison. The refuge will increase opportunities for wildlife-dependent public uses such as hunting, fishing, wildlife observation and photography, and environmental education. We will keep some areas undeveloped, return some areas to a natural state, and increase development in other areas to enhance visitor services. A detailed description of objectives and actions included in this selected alternative is found in chapter 4 of the final CCP.

Dated: September 23, 2016.
Noreen Walsh,
Regional Director, Mountain-Prairie Region, U.S. Fish and Wildlife Service.

[FR Doc. 2016-27268 Filed 11-10-16; 8:45 am]

BILLING CODE 4333-15-P